ENVIRONMENTAL PROTECTION AGENCY

40 CFR Part 180

[EPA-HQ-OPP-2025-0266; FRL-12991-01-OCSPP]

RIN 2070-ZA16

Pesticide Tolerances; Implementing Registration Review Decisions for Certain Pesticides; Atrazine, et al.

AGENCY: Environmental Protection Agency (EPA).

ACTION: Proposed rule.

SUMMARY: The Environmental Protection Agency (EPA or Agency) is proposing to implement several tolerance actions under the Federal Food, Drug, and Cosmetic Act (FFDCA) that the Agency determined were necessary or appropriate during the registration review conducted under the Federal Insecticide, Fungicide, and Rodenticide Act (FIFRA). During registration review, EPA reviews all aspects of a pesticide case, including existing tolerances, to ensure that the pesticide continues to meet the standard for registration under FIFRA. The pesticide tolerances and active ingredients addressed in this rulemaking are identified and discussed in detail in Unit III. of this document.

DATES: Comments must be received on or before February 9, 2026.

ADDRESSES: Submit your comments, identified by docket identification (ID) number EPA-HQ-OPP-2025-0266, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Alex McKee, Pesticide Re-Evaluation Division (7508M), Office of Pesticide Programs, Environmental Protection Agency, 1200 Pennsylvania Ave. NW, Washington, DC 20460-0001; telephone number: (202) 566-1939; email address: mckee.alex@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What action is the Agency taking?

EPA is proposing several tolerance actions that the Agency previously determined were necessary or appropriate during registration review of the pesticide active ingredients identified in Unit III. The tolerance actions for each pesticide active ingredient are described in Unit III. and may include but are not limited to the following types of actions:

• Revising tolerance expressions;

• Modifying commodity definitions;

• Updating crop groupings;

• Removing expired tolerances;

• Revoking tolerances that are no longer needed; and

• Harmonizing tolerances with the Codex Alimentarius Commission (Codex) Maximum Residue Levels (MRLs).

Although it may not have been identified in the registration review of a particular pesticide, this proposed rule reflects the Agency's 2019 adoption of the Organization of Economic Cooperation and Development (OECD) Rounding Class Practice. More information on the OECD Rounding Class Practice can be found at https://www.oecd.org/en/publications/mrl-calculator-users-guide-and-white-paper_9789264221567-en.html. Where applicable, these adjustments are proposed for specific pesticides as indicated in Unit III.

C. What is EPA's authority for taking this action?

Section 408(e) of the Federal Food, Drug and Cosmetic Act (FFDCA), 21 U.S.C. 346a(e), authorizes EPA to establish, modify, or revoke tolerances or exemptions from the requirement of a tolerance on its own initiative.

Under FIFRA section 3(g), 7 U.S.C. 136a(g), EPA is required to periodically review all registered pesticides and determine if those pesticides continue to meet the standard for registration under FIFRA. As part of the registration review of a pesticide, EPA also evaluates the existing tolerances and any tolerance changes identified as necessary or appropriate during registration review of a pesticide are summarized in the registration review decision documents for each pesticide active ingredient or registration review case (e.g., in the Proposed Interim Decision (PID), Proposed Final Decision (PFD), Interim Decision (ID) and Final Decision (FD)). These documents can be found in the public docket opened for each pesticide undergoing registration review. Additional information about pesticide registration review is available at https://www.epa.gov/pesticide-reevaluation.

Prior to issuing the final regulation, FFDCA section 408(e)(2) requires EPA to issue a notice of proposed rulemaking for a 60-day public comment period, unless the Administrator for good cause finds that it would be in the public interest to have a shorter period and states the reasons in the proposed rulemaking.

D. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/commenting-epa-dockets.

E. What can I do if I want the Agency to maintain a tolerance that the Agency proposes to revoke?

This proposed rule provides a 60-day public comment period that allows any person to state an interest in retaining a tolerance proposed for revocation. If EPA receives such a comment within the 60-day period, EPA will not proceed to revoke the tolerance immediately. However, EPA will take steps to ensure the submission of any needed supporting data and will issue an order in the Federal Register under FFDCA section 408(f), if needed. If the data are not submitted as required in the order, EPA will take appropriate action under FFDCA.

After considering comments that are received in response to this proposed rule, EPA will issue a final rule. At the time of the final rule, you may file an objection or request a hearing on the action taken in the final rule. If you fail to file an objection to the final rule within the time period specified in the final rule, you will have waived the right to raise any issues resolved in the final rule. After the filing deadline specified in the final rule, issues resolved in the final rule cannot be raised again in any subsequent proceedings.

II. Background

A. What is a tolerance?

A “tolerance” represents the maximum level for residues of a pesticide chemical legally allowed in or on food, which includes raw agricultural commodities and processed foods and feed for animals. Under the FFDCA, residues of a pesticide chemical that are not covered by a tolerance or exemption from the requirement of a tolerance are considered unsafe. See 21 U.S.C. 346a(a)(1). Foods containing unsafe residues are deemed adulterated and may not be distributed in interstate commerce. See 21 U.S.C. 331(a) and 342(a)(2)(B). Consequently, for a food-use pesticide (i.e., a pesticide use that is likely to result in residues in or on food) to be sold and distributed in the United States, the pesticide must not only have appropriate tolerances or exemptions under the FFDCA, but also must be registered under FIFRA. Food-use pesticides not registered in the United States must have tolerances or exemptions in order for commodities treated with those pesticides to be imported into the United States. For additional information about tolerances, go to https://www.epa.gov/pesticide-tolerances/about-pesticide-tolerances.

B. Why does EPA consider international residue limits?

When establishing a tolerance for residues of a pesticide, EPA must determine whether Codex has established a MRL for that pesticide. See 21 U.S.C. 346a(b)(4). Additionally, as part the registration review of a pesticide (see Unit II.C.), EPA determines whether Codex or other international MRLs exist for commodities and chemicals for which U.S. tolerances have been established. Where appropriate, EPA's intention is to harmonize U.S. tolerances with those international MRLs to facilitate trade. EPA's effort to harmonize with international MRLs is summarized in the tolerance reassessment section of the individual Human Health Draft Risk Assessments that support the pesticide registration review.

C. What is registration review?

Under FIFRA section 3(g), 7 U.S.C. 136a(g), EPA is required to periodically review all registered pesticides and determine if those pesticides continue to meet the standard for registration under FIFRA. See also 40 CFR 155.40(a). The registration review program is intended to make sure that, as the ability to assess risk evolves and as policies and practices change, all registered pesticides can continue to be used without causing unreasonable adverse effects on human health and the environment. As part of the registration review of a pesticide, EPA also evaluates whether existing tolerances are safe, whether any changes to existing tolerances are necessary or appropriate, and whether any new tolerances are necessary to cover residues from registered pesticides. In addition, any tolerance changes identified as necessary or appropriate during registration review of a pesticide are summarized in the registration review decision documents for each pesticide active ingredient or registration review case (e.g., in the Proposed Interim Decision (PID), Proposed Final Decision (PFD), Interim Decision (ID) and Final Decision (FD)). These documents can be found in the public docket that has been opened for each pesticide, which is available online at https://www.regulations.gov, using the docket ID number listed in Unit III. for each pesticide active ingredient included in this proposed action. Additional information about pesticide registration review is available at https://www.epa.gov/pesticide-reevaluation.

D. EPA's Safety Assessments

FFDCA section 408(b) authorizes EPA to establish a tolerance, if the Agency determines that a tolerance is safe; FFDCA section 408(c) authorizes EPA to establish an exemption from the requirement of a tolerance if the Agency determines that the exemption is safe. See 21 U.S.C. 346a(b) and (c). If EPA determines that a tolerance or exemption is not safe, EPA must modify or revoke that tolerance or exemption. The FFDCA defines “safe” to mean that “there is a reasonable certainty that no harm will result from aggregate exposure to the pesticide chemical residue, including all anticipated dietary exposures and all other exposures for which there is reliable information.” 21 U.S.C. 346a(b)(2)(A)(ii), (c)(2)(A)(ii). This includes exposure through drinking water and in residential settings but does not include occupational exposure. FFDCA section 408(b)(2)(C) requires EPA to give special consideration to the exposure of infants and children to the pesticide chemical residue in establishing a tolerance and to “ensure that there is a reasonable certainty that no harm will result to infants and children from aggregate exposure to the pesticide chemical residue[s.]” 21 U.S.C. 346a(b)(2)(C). In addition, FFDCA section 408(b)(2)(D) contains several factors EPA must consider when making determinations about establishing, modifying, or revoking tolerances. 21 U.S.C. 346a(b)(2)(D). FFDCA section 408(c)(2)(B) requires that EPA, when making determinations about exemptions, to take into account, among other things, the considerations set forth in FFDCA section 408(b)(2)(C) and (D). 21 U.S.C. 346a(c)(2)(B).

Furthermore, when establishing tolerances or exemptions from the requirement of a tolerance, FFDCA sections 408(b)(3) and (c)(3) require that there be a practical method for detecting and measuring pesticide chemical residue levels in or on food, unless in the case of exemptions, EPA determines that such method is not needed and states the reasons therefore in the rulemaking. 21 U.S.C. 346a(b) and (c).

Consistent with its obligations under FIFRA section 3(g), 7 U.S.C. 136a(g), and FFDCA section 408, 21 U.S.C. 346a, EPA has reviewed the available scientific data and other relevant information on toxicity and exposure of the individual chemicals represented in this rulemaking. As part of registration review, the Agency has published risk assessments detailing the risks from aggregate exposure, including to infants and children, for each of the pesticides represented herein. The chemical-specific toxicity and exposure analyses, which support the safety determinations contained in Unit III., can be found in the human health risk assessment documents and related registration review decision documents, which are available in the public docket that has been opened for each pesticide, as noted in Unit III.

After considering all available information, EPA has determined it is appropriate based on the underlying safety assessments to take the tolerance actions being proposed in this rulemaking and that adequate enforcement methodology as described in the supporting documents is available to enforce the tolerance expressions.

III. Proposed Tolerance Actions

EPA is proposing to take the specific tolerance actions identified in this unit. All tolerance values proposed in the regulatory text of this rule, modified or otherwise, are being proposed to reflect current OECD rounding practices.

A. 40 CFR 180.220; Atrazine; Case 0062 (Docket ID No. EPA-HQ-OPP-2013-0266)

EPA is proposing to amend the current tolerances by:

• Revising the tolerance expression in paragraph (a) for atrazine to describe more clearly the scope or coverage of the tolerances and the method for measuring compliance. Consistent with EPA policy, the revised tolerance expression would clarify that (1) as provided in FFDCA section 408(a)(3), the tolerances cover metabolites and degradates of atrazine not specifically mentioned; and (2) compliance with the specified tolerance levels is to be determined by measuring the specific compounds mentioned in the tolerance expression. The revisions to the tolerance expression would not substantively change the tolerances or, in any way, modify the permissible level of residues permitted by the tolerances.

• Modifying the tolerance level in paragraph (a) for “Corn, sweet, forage” from 15 ppm to 1.5 ppm, which is supported by the updated pre-harvest interval. The Agency previously reviewed crop field trial data conducted on sweet corn, reflecting maximum use rates of post-emergent applications of atrazine and a 45-day pre-harvest interval for forage. These data indicate that a tolerance level of 1.5 ppm is adequate to cover potential residues of atrazine in/on corn, sweet, forage following post-emergent application at maximum registered use rates and a 45-day pre-harvest interval for forage. Because the proposed action would lower the existing tolerance, EPA is proposing to add an expiration date for the existing tolerance of 180 days after publication of the final rule in the Federal Register.

• Updating the existing crop group tolerance in paragraph (d) for indirect or inadvertent residues of atrazine from “Vegetable, leafy, except brassica, group 4” to the updated crop groups “Leaf petiole vegetable subgroup 22B” and “Leafy greens subgroup 4-16A” at the same level, 0.25 ppm. The Agency is also proposing to establish tolerances for the following individual commodities, which would otherwise lose coverage under the updated crop groupings: “Arugula”, “Celtuce”, “Fennel, Florence, fresh leaves and stalk”, “Cress, garden”, and “Cress, upland” at 0.25 ppm.

40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985) (November 6, 2020).

• Establishing new tolerances in paragraph (d) for indirect or inadvertent residues of atrazine in or on “Vegetable, foliage of legume, group 7” at 0.5 ppm. Rotational crop studies support the establishment of this tolerance.

• Modifying tolerances to reflect current OECD rounding practices.

As discussed in Unit II.D., based on the supporting registration review documents, EPA has determined that the proposed amendments to the atrazine tolerances would be safe, i.e., there is a reasonable certainty that no harm will result to the general population, or specifically to infants and children, from aggregate exposure to atrazine residues. Adequate enforcement methodology is available.

This proposed rule only proposes atrazine tolerance actions which EPA previously identified as necessary or appropriate during registration review. It does not serve as a response to the petition that EPA received in February 2025 from the Center for Biological Diversity, A Petition to Make America Healthy Again by Eliminating Extraordinarily Toxic Pesticides From Food (available at https://www.epa.gov/system/files/documents/2025-07/maha_petition.pdf), which asks, in part, that EPA revoke all tolerances for residues of atrazine. That petition is currently under review by the Agency.

B. 40 CFR 180.226; Diquat; Case 0288 (Docket ID No. EPA-HQ-OPP-2009-0846)

EPA is proposing to amend the current tolerances by:

• Revising the commodity definitions in paragraph (a)(2) from “Vegetable, brassica, leafy, group 5” to “Vegetable, Brassica, leafy, group 5” and “Vegetable, leafy, except brassica, group 4” to “Vegetable, leafy, except Brassica, group 4.” These revisions of commodity definitions would help facilitate efficient commodity searches and would not substantively change the tolerance or, in any way, modify the permissible level of residues in or on the commodity listed in the regulation.

• Updating existing crop group tolerances in paragraph (a)(2) from “Berry group 13” to “Berry and small fruit, group 13-07”, “Cotton, undelinted seed” to “Oilseeds, group 20”, “Fruit, citrus, group 10” to “Fruit, citrus, group 10-10”, “Fruit, pome, group 11” to “Fruit, pome, group 11-10”, “Fruit, stone, group 12” to “Fruit, stone, group 12-12”, and “Nut, tree, group 14” to “Nut, tree, group 14-12”. The Agency also proposes to remove tolerances for the individual commodities “Cranberry”, “Grape”, and “Strawberry”, which would be covered under the updated crop group “Berry and small fruit, group 13-07” at the same level, 0.05 ppm.

40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985) (November 6, 2020).

• Revoking the tolerance from paragraph (a)(3) for “Soybean, hulls” at 0.6 ppm, because domestic use of diquat on soybeans was cancelled. Because the proposed action would revoke the existing tolerance, EPA is proposing to add an expiration date for the existing tolerance of 180 days after publication of the final rule in the Federal Register.

• Establishing a new tolerance in paragraph (a)(1) for “Clover, seed” at 2 ppm. This was recommended in the 2002 Tolerance Reassessment Eligibility Document (TRED) based on the registered use on clover grown for seed.

• Establishing new tolerances in paragraph (a)(2) for “Animal feed, nongrass, group 18, forage”, “Animal feed, nongrass, group 18, hay”, and “Herb and spice, group 19” at 0.2 ppm, and for “Vegetable, bulb, group 3” and “Vegetable, leaves of root and tuber, group 2” at 0.02 ppm. Translation of available commodity data support the establishment of these tolerances.

• Moving the tolerances for “Banana”, and “Coffee, bean, green” from paragraph (a)(3) to paragraph (a)(1), moving the tolerances for “Potato, granules/flakes” and “Potato, chips” from paragraph (a)(4) to paragraph (a)(1), and moving and establishing an expiration date for the tolerance for “Soybean, hulls” from paragraph (a)(3) to paragraph (a)(1).

• Modifying tolerances to reflect current OECD rounding practices.

Where appropriate, it is the Agency's intention is to harmonize U.S. tolerances with international MRLs to facilitate trade. EPA has identified opportunities to harmonize with Codex MRLs for diquat and is proposing to harmonize tolerances for bananas and coffee from 0.05 ppm to 0.02 ppm as there are no U.S. registrations for these crop uses. Tolerances for residues in/on banana and coffee were established at the limit of quantitation, which was 0.05 ppm at the time of the petitions for the tolerances in/on banana and coffee in 1995. The Agency determined that the 0.02 ppm level reflects the limit of quantitation of the current enforcement method. Because the proposed action would lower the existing tolerances, EPA is proposing to add an expiration date for the existing tolerance of 180 days after publication of the final rule in the Federal Register.

As discussed in Unit II.D., based on the supporting registration review documents, EPA has determined that the proposed amendments to the diquat tolerances would be safe, i.e., there is a reasonable certainty that no harm will result to the general population, or specifically to infants and children, from aggregate exposure to diquat residues. Adequate enforcement methodology is available.

C. 40 CFR 180.318; MCPB; Case 2365 (Docket ID No. EPA-HQ-OPP-2014-0181)

EPA is proposing to amend the current tolerances by:

• Revising the tolerance expression in paragraph (a) for MCPB to describe more clearly the scope or coverage of the tolerances and the method for measuring compliance. Consistent with EPA policy, the revised tolerance expression would clarify that (1) as provided in FFDCA section 408(a)(3), the tolerances cover metabolites and degradates of MCPB not specifically mentioned; and (2) compliance with the specified tolerance levels is to be determined by measuring the specific compounds mentioned in the tolerance expression. The revisions to the tolerance expression would not substantively change the tolerances or, in any way, modify the permissible level of residues permitted by the tolerances.

• Revising the commodity definition and modifying the tolerance levels in paragraph (a) from “Pea” at 0.1 ppm to “Pea, dry, seed” at 0.03 ppm, “Pea, edible, podded” at 0.02 ppm, and “Pea, succulent, shelled” at 0.02 ppm, which is supported by field trial data. As part of registration review, the Agency reviewed crop field trials conducted on pea, which reflect registered use patterns of MPCB. These data indicate that a tolerance level of 0.03 ppm is adequate to cover potential residues of MCPB in/on pea, dry, seed following application at maximum registered use rates. Additionally, the tolerance level of 0.02 ppm for residues in/on “Pea, edible podded” and “Pea, succulent, shelled” is based on the limit of quantification, as no residues were detected in these commodities in the reviewed field trial data. Because the proposed action would lower the existing tolerance, EPA is proposing to add an expiration date for the existing tolerance of 180 days after publication of the final rule in the Federal Register.

• Revising the commodity definitions in paragraph (a) from “Peppermint, tops” to “Peppermint, fresh leaves” and “Spearmint, tops” to “Spearmint, fresh leaves”. These revisions of commodity definitions would help facilitate efficient commodity searches and would not substantively change the tolerance or, in any way, modify the permissible level of residues in or on the commodity listed in the regulation.

• Revising the title to “MCPB” in 40 CFR 180.318 to more accurately reflect the chemical covered by the tolerances in that section.

• Modifying tolerances to reflect current OECD rounding practices.

As discussed in Unit II.D., based on the supporting registration review documents, EPA has determined that the proposed amendments to the MCPB tolerances would be safe, i.e., there is a reasonable certainty that no harm will result to the general population, or specifically to infants and children, from aggregate exposure to MCPB residues. Adequate enforcement methodology is available.

D. 40 CFR 180.328; Napropamide; Case 2450 (Docket ID No. EPA-HQ-OPP-2016-0019)

EPA is proposing to amend the current tolerances by:

• Revising the tolerance expression in paragraph (a) for napropamide to describe more clearly the scope or coverage of the tolerances and the method for measuring compliance. Consistent with EPA policy, the revised tolerance expression would clarify that (1) as provided in FFDCA section 408(a)(3), the tolerances cover metabolites and degradates of napropamide not specifically mentioned; and (2) compliance with the specified tolerance levels is to be determined by measuring the specific compounds mentioned in the tolerance expression. The revisions to the tolerance expression would not substantively change the tolerances or, in any way, modify the permissible level of residues permitted by the tolerances.

• Revising the commodity definitions in paragraph (a) from “Spearmint, tops” to “Spearmint, fresh leaves” and “Peppermint, tops” to “Peppermint, fresh leaves”. These revisions of the commodity definitions would help facilitate efficient commodity searches and would not substantively change the tolerances or, in any way, modify the permissible level of residues in or on the commodities listed in the regulation.

• Updating existing crop group tolerances in paragraph (a) from “Vegetable, fruiting, Group 8” and “Nut, tree, Group 14” to the updated crop groups “Vegetable, fruiting, Group 8-10” and “Nut, tree, Group 14-12” at the same level, 0.1 ppm. The Agency also proposes to remove the tolerance for the individual commodity “Almond, hulls”, which would be covered under the updated crop grouping “Nut, tree, Group 14-12” at the same level, 0.1 ppm.

• Updating existing crop group tolerances in paragraph (a) from “Vegetable, Brassica, leafy, group 5” to “Brassica, leafy greens, subgroup 4-16B”, “Vegetable, brassica, head and stem, group 5-16”, and “Stalk and stem vegetable subgroup 22A” at the same level, 0.1 ppm. The Agency also proposes to remove the tolerance for the individual commodity “Asparagus”, which would be covered under the updated crop groupings at the same level, 0.1 ppm.

• Updating existing crop group tolerances in paragraph (a) from “Berry group 13” to “Berry, low growing, subgroup 13-07G”, “Bushberry subgroup 13-07B”, “Caneberry Subgroup 13-07A”, and “Fruit, small, vine climbing, subgroup 13-07D” at the same level, 0.1 ppm. The Agency also proposes to remove the tolerances for the individual commodities “Cranberry”, “Grape”, “Kiwifruit”, and “Strawberry”, which would be covered under the updated crop groupings at the same level, 0.1 ppm.

40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985) (November 6, 2020).

As discussed in Unit II.D., based on the supporting registration review documents, EPA has determined that the proposed amendments to the napropamide tolerances would be safe, i.e., there is a reasonable certainty that no harm will result to the general population, or specifically to infants and children, from aggregate exposure to napropamide residues. Adequate enforcement methodology is available.

E. 40 CFR 180.339; MCPA; Case 0017 (Docket ID No. EPA-HQ-OPP-2014-0180)

EPA is proposing to amend the current tolerances by:

• Modifying the tolerance levels in paragraph (a) for “Pea, field, hay” from 0.1 ppm to 1.5 ppm and “Pea, field, vines” from 0.1 to 0.6 ppm, based on updated field trial data and OECD calculations.

• Revising the commodity definition in paragraph (a) from “Pea, succulent” to “Pea, succulent shelled”. The revision of commodity definition would help facilitate efficient commodity searches and would not substantively change the tolerance or, in any way, modify the permissible level of residues in or on the commodity listed in the regulation.

• Revising the commodity definition in paragraph (a) from “Pea, dry” to “Pea, dry, seed” and modifying the tolerance level from 0.1 ppm to 0.01 ppm, based on updated field trial data and OECD calculations. As part of registration review, the Agency reviewed crop field trials conducted on dry pea, which reflect registered use patterns of MCPA. These data indicate that a tolerance level of 0.01 ppm is adequate to cover potential residues of MCPA in/on pea, dry, seed following application at maximum registered use rates. The revision of the commodity definition and permissible tolerance level would help facilitate efficient commodity searches as well as harmonize the tolerance level with Codex. Because the proposed action would lower the existing tolerance, EPA is proposing to add an expiration date for the existing tolerance of 180 days after publication of the final rule in the Federal Register.

• Establishing new crop group tolerances in paragraph (a) for “Grass, forage, fodder, and hay, group 17, forage” at 500 ppm, and “Grass, forage, fodder, and hay, group 17, hay” at 200 ppm, based on updated OECD calculations. The Agency also proposes to remove the tolerances for the individual commodities “Grass, forage” at 300 ppm and “Grass, hay” at 20 ppm, which would be covered under the updated crop grouping. The establishment of the new crop group tolerance for “Grass, forage, fodder, and hay, group 17, forage” at 500 ppm would help facilitate efficient commodity searches as well as harmonize permissible levels with Codex.

40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985) (November 6, 2020).

• Revoking the tolerances in paragraph (a) for “Hog, fat”, “Hog, meat”, and “Hog, meat byproducts”. An updated dietary burden calculation showed no reasonable expectation of finite residues in hog commodities (see 40 CFR 180.6(a)(3)). Because the proposed action would revoke the existing tolerances, EPA is proposing to add an expiration date for the existing tolerances of June 9, 2026.

• Modifying tolerances by removing trailing zeros to reflect current OECD rounding practices.

Where appropriate, it is the Agency's intention to harmonize U.S. tolerances with international MRLs to facilitate trade. EPA has identified opportunities to harmonize with Codex MRLs for MCPA and is proposing to modify the following tolerance values in paragraph (a) to do so: “Oat, straw” from 25 ppm to 50 ppm, “Rye, forage” from 20 ppm to 50 ppm, “Rye, straw” from 25 ppm to 50 ppm, “Wheat, forage” from 20 ppm to 50 ppm, and “Wheat, straw” from 25 ppm to 50 ppm.

In addition to harmonizing with Codex, EPA is proposing to modify the following tolerance values based on updated OECD calculations: “Barley, grain” from 1 ppm to 0.2 ppm, “Oat, grain” from 1 ppm to 0.2 ppm, “Oat, hay” from 115 ppm to 50 ppm, “Rye, grain” from 1 ppm to 0.2 ppm, “Wheat, grain” from 1.0 ppm to 0.2 ppm, and “Wheat, hay” from 115 ppm to 50 ppm. As part of registration review, the Agency reviewed crop field trials conducted at an exaggerated application rate on wheat, which reflect registered uses of MCPA. These data indicate that tolerance levels of 0.2 ppm and 50 ppm are adequate to cover potential residues of MCPA in/on wheat, grain and wheat, hay, respectively, following application at maximum registered use rates. These tolerance levels have been translated to other small cereal grains, including barley, oat, and rye. Because the proposed action would lower the existing tolerances, EPA is proposing to add an expiration date for the existing tolerance of 180 days after publication of the final rule in the Federal Register.

In addition to harmonizing with Codex, EPA is proposing to modify the following tolerance values based on an updated dietary burden calculations: “Cattle, fat” from 0.1 ppm to 0.2 ppm, “Cattle, meat byproducts” from 0.1 ppm to 3 ppm, “Goat, fat” from 0.1 ppm to 0.2 ppm, “Goat, meat byproducts” from 0.1 ppm to 3 ppm, “Horse, fat” from 0.1 ppm to 0.2 ppm, “Horse, meat byproducts” from 0.1 ppm to 3 ppm, “Milk” from 0.1 ppm to 0.04 ppm, “Sheep, fat” from 0.1 ppm to 0.2 ppm, and “Sheep, meat byproducts” from 0.1 ppm to 3 ppm. Because the proposed action would lower the existing tolerance for “Milk”, EPA is proposing to establish an expiration date for the existing tolerance of EPA is proposing to add an expiration date for the existing tolerance of 180 days after publication of the final rule in the Federal Register. The updated tolerance level is based on livestock feeding studies and updated dietary burden calculations, which incorporates residues from updated crop field trial data reviewed under registration review.

In addition to harmonizing with Codex, EPA is proposing to modify the tolerance value for “Flax, seed” from 0.1 ppm to 0.01 ppm, based on updated residue data. As part of registration review, the Agency reviewed crop field trials conducted on flax, which reflect registered use patterns of MCPA. These data indicate that a tolerance level of 0.01 ppm is adequate to cover potential residues of MCPA in/on flax, seed following application at maximum registered use rates. Because the proposed action would lower the existing tolerance, EPA is proposing to add an expiration date for the existing tolerance of 180 days after publication of the final rule in the Federal Register.

As discussed in Unit II.D., based on the supporting registration review documents, EPA has determined that the proposed amendments to the MCPA tolerances would be safe, i.e., there is a reasonable certainty that no harm will result to the general population, or specifically to infants and children, from aggregate exposure to MCPA residues. Adequate enforcement methodology is available.

F. 40 CFR 180.409; Pirimiphos-Methyl; Case 2535 (Docket ID No. EPA-HQ-OPP-2009-0056)

EPA is proposing to amend the current tolerances by:

• Revising the tolerance expression in paragraph (a) for pirimiphos-methyl to describe more clearly the scope or coverage of the tolerances and the method for measuring compliance. Consistent with EPA policy, the revised tolerance expression would clarify that (1) as provided in FFDCA section 408(a)(3), the tolerances cover metabolites and degradates of pirimiphos-methyl not specifically mentioned; and (2) compliance with the specified tolerance levels is to be determined by measuring the specific compounds mentioned in the tolerance expression. The revisions to the tolerance expression would not substantively change the tolerances or, in any way, modify the permissible level of residues permitted by the tolerances.

• Modifying tolerances to reflect current OECD rounding practices.

Where appropriate, it is the Agency's intention is to harmonize U.S. tolerances with international MRLs to facilitate trade. EPA has identified opportunities to harmonize with Codex MRLs for pirimiphos-methyl and is proposing to modify tolerance levels for the following commodities to do so: “Cattle, fat” from 0.02 ppm to 0.01 ppm, “Cattle, meat byproducts” from 0.02 ppm to 0.01 ppm, “Corn, field, grain” from 8 ppm to 7 ppm, “Corn, pop, grain” from 8 ppm to 7 ppm, “Goat, fat” from 0.02 ppm to 0.01 ppm, “Goat, meat byproducts” from 0.02 ppm to 0.01 ppm, “Hog, fat” from 0.02 ppm to 0.01 ppm, “Hog, meat byproducts” from 0.02 ppm to 0.01 ppm, “Horse, fat” from 0.02 ppm to 0.01 ppm, “Horse, meat byproducts” from 0.02 ppm to 0.01 ppm, “Poultry, fat” from 0.02 ppm to 0.01 ppm, “Sheep, fat” from 0.02 ppm to 0.01 ppm, “Sheep, meat byproducts” from 0.02 ppm to 0.01 ppm, and “Sorghum, grain, grain” from 8 ppm to 7 ppm. The Agency is proposing the revisions to “Corn, field, grain”, “Corn, pop, grain”, and “Sorghum, grain, grain” based on the maximum application rate of pirimiphos-methyl on corn and sorghum grain and pesticide monitoring data showing little, if any, residues in or on corn and sorghum grain. For the livestock tolerances, the Agency concluded that the decreased tolerance level is sufficient to cover anticipated residues in or on “Cattle, fat”, “Cattle, meat byproducts”, “Goat, fat”, “Goat, meat byproducts”, “Hog, fat”, “Hog, meat byproducts”, “Horse, fat”, “Horse, meat byproducts”, “Poultry, fat”, “Sheep, fat”, and “Sheep, meat byproducts” based on the calculated dietary burden and available residue chemistry data. Because the proposed action would lower the existing tolerances, EPA is proposing to add an expiration date for the existing tolerance of 180 days after publication of the final rule in the Federal Register.

As discussed in Unit II.D, based on the supporting registration review documents, EPA has determined that the proposed amendments to the pirimiphos-methyl tolerances would be safe, i.e., there is a reasonable certainty that no harm will result to the general population, or specifically to infants and children, from aggregate exposure to pirimiphos-methyl residues. Adequate enforcement methodology is available.

G. 40 CFR 180.411; Fluazifop-P-Butyl; Case 2285 (Docket ID No. EPA-HQ-OPP-2014-0779)

EPA is proposing to amend the current tolerances by:

• Revising the tolerance expressions in paragraphs (a) and (c) for fluazifop-P-butyl to describe more clearly the scope or coverage of the tolerances and the method for measuring compliance. Consistent with EPA policy, the revised tolerance expression would clarify that (1) as provided in FFDCA section 408(a)(3), the tolerances cover metabolites and degradates of fluazifop-P-butyl not specifically mentioned; and (2) compliance with the specified tolerance levels is to be determined by measuring the specific compounds mentioned in the tolerance expression. The revisions to the tolerance expression would not substantively change the tolerances or, in any way, modify the permissible level of residues permitted by the tolerances.

• Removing the tolerances from paragraph (a) for “Fruit, citrus, group 10” at 0.03 ppm and “Fruit, stone” at 0.05 ppm. These tolerances were time-limited to allow a reasonable interval for producers to adapt to the requirement when the current crop group tolerances were established and expired on June 26, 2023.

• Removing the tolerance from paragraph (a) for “Citrus, juice” at 0.06 ppm. Based on a new citrus processing study, EPA determined that any residues in this commodity would be covered by the “Fruit, citrus, group 10-10” tolerance of 0.01 ppm. Because the proposed action would lower the tolerance level for this commodity, EPA is proposing to add an expiration date for the existing tolerance of 180 days after publication of the final rule in the Federal Register.

• Modifying tolerance levels in paragraph (a) for “Citrus, dried pulp” from 0.40 to 0.06 ppm, “Citrus, oil” from 30.0 to 0.05 ppm, and “Soybean, seed” from 2.5 to 4 ppm. While the existing tolerances for these citrus commodities were based on theoretical concentration factors, EPA is proposing to modify the tolerances based on a new citrus processing study. Likewise, EPA is proposing to modify the tolerance for “Soybean, seed” based on new data on soybean residues. Because the proposed action would lower the existing tolerances for the citrus commodities, EPA is proposing to add an expiration date for the existing tolerance of 180 days after publication of the final rule in the Federal Register.

• Revising the commodity definitions and modifying the tolerance levels in paragraph (a) from “Beans, dry, seed” at 50 ppm to “Bean, dry, seed” at 40 ppm, and from “Pecans” at 0.05 ppm to “Pecan” at 0.01 ppm. For “Bean, dry, seed”, the Agency determined that the U.S. tolerance was determined using the North American Free Trade Agreement (NAFTA) calculator, while the Codex MRL was determined using the Organisation for Economic Co-operation and Development (OECD) calculator. As the Agency currently relies on the OECD calculator and the Codex MRL was determined using the same dataset as the U.S. tolerance, the tolerance should be lowered to harmonize with Codex. For “Pecan”, the Agency determined that the 0.01 ppm level reflects the limit of quantitation of the current enforcement method. This level is appropriate as there are no detects in the field trial data, residue translocation into tree/vine fruit is not expected based on the registered use pattern, and suitably sensitive analytical enforcement methods are available, so the tolerances should be lowered to harmonize with Codex. The revisions of the commodity definitions and permissible tolerance levels would help facilitate efficient commodity searches as well as harmonize the tolerance levels with Codex. Because the proposed action would lower the existing tolerances, EPA is proposing to add an expiration date for the existing tolerance of 180 days after publication of the final rule in the Federal Register.

• Modifying tolerances to reflect current OECD rounding practices.

Where appropriate, it is the Agency's intention to harmonize U.S. tolerances with international MRLs to facilitate trade. EPA has identified opportunities to harmonize with Codex MRLs for fluazifop-P-butyl and is proposing to modify the following tolerance values in paragraphs (a) and (c) to do so: “Beet, sugar, roots” from 0.25 ppm to 0.5 ppm, “Cattle, fat” from 0.05 ppm to 0.09 ppm, “Cattle, meat” from 0.05 ppm to 0.09 ppm, “Cattle, meat byproducts” from 0.05 ppm to 0.2 ppm, “Coffee, bean” from 0.1 ppm to 0.01 ppm, “Cotton, undelinted seed” from 1 ppm to 0.7 ppm, “Egg” from 0.05 ppm to 0.03 ppm, “Goat, fat” from 0.05 ppm to 0.09 ppm, “Goat, meat” from 0.05 ppm to 0.09 ppm, “Goat, meat byproducts” from 0.05 ppm to 0.2 ppm, “Hog, fat” from 0.05 ppm to 0.09 ppm, “Hog, meat” from 0.05 ppm to 0.09 ppm, “Hog, meat byproducts” from 0.05 ppm to 0.2 ppm, “Horse, fat” from 0.05 ppm to 0.09 ppm, “Horse, meat” from 0.05 ppm to 0.09 ppm, “Horse, meat byproducts” from 0.05 ppm to 0.2 ppm, “Milk” from 0.05 ppm to 0.2 ppm, “Poultry, fat” from 0.05 ppm to 0.03 ppm, “Poultry, meat” from 0.05 ppm to 0.03 ppm, “Poultry, meat byproducts” from 0.05 ppm to 0.2 ppm, “Sheep, fat” from 0.05 ppm to 0.09 ppm, “Sheep, meat” from 0.05 ppm to 0.09 ppm, and “Sheep, meat byproducts” from 0.05 ppm to 0.2 ppm. For “Coffee, bean”, the Agency determined that the 0.01 ppm level reflects the limit of quantitation of the current enforcement method. This level is appropriate as there are no detects in the field trial data, residue translocation into tree/vine fruit is not expected based on the registered use pattern, and suitably sensitive analytical enforcement methods are available, so the tolerances should be lowered to harmonize with Codex, For “Cotton, undelinted seed”, the same dataset was used to establish the U.S. tolerance (1.0 ppm) and the Codex MRL (0.7 ppm). The difference in levels appears to result from a difference in the residue value determined from the trial with the highest residue and should be lowered to the same level as the Codex MRL so it is more representative. For “Egg”, “Poultry, fat”, and “Poultry meat”, the U.S. tolerances are currently higher due to differences in the livestock method limit of quantitation (LOQ) when the levels were determined and should be lowered as they now share the same LOQ as the Codex MRLs. Because the proposed action would lower the existing tolerances for “Coffee, bean”, “Cotton, undelinted seed”, “Egg”, “Poultry, fat”, and “Poultry, meat”, EPA is proposing to add an expiration date for the existing tolerance of 180 days after publication of the final rule in the Federal Register.

As discussed in Unit II.D., based on the supporting registration review documents, EPA has determined that the proposed amendments to the fluazifop tolerances would be safe, i.e., there is a reasonable certainty that no harm will result to the general population, or specifically to infants and children, from aggregate exposure to fluazifop residues. Adequate enforcement methodology is available.

H. 40 CFR 180.458; Clethodim; Case 7226 (Docket ID No. EPA-HQ-OPP-2008-0658).

EPA is proposing to amend the current tolerances by:

• Updating existing individual and crop group tolerances in paragraph (a) from “Flax, seed” at 0.6 ppm and “Rapeseed subgroup 20A, except flax seed” at 0.50 ppm to the crop group “Rapeseed subgroup 20A” at 0.6 ppm. Upon establishment of the new crop group, and to prevent redundancy, the Agency proposes to remove tolerances that will be unnecessary once they are superseded by the tolerances established for the new crop group, including the tolerances for “Flax, seed” and “Rapeseed subgroup 20A, except flax seed” that will now be covered under the updated crop grouping “Rapeseed subgroup 20A.”

• Removing the tolerance from paragraph (a) for “Kohlrabi” at 3 ppm. This tolerance was time-limited to allow a reasonable interval for producers to adapt to the requirement when the current crop group tolerances were established and expired on October 12, 2018.

• Modifying tolerances to reflect current OECD rounding practices.

Where appropriate, it is the Agency's intention to harmonize U.S. tolerances with those international MRLs to facilitate trade. EPA has identified opportunities to harmonize with Codex MRLs for clethodim and is proposing to increase the tolerance for “Peanut” from 3.0 ppm to 5 ppm.

As discussed in Unit II.D., based on the supporting registration review documents, EPA has determined that the proposed amendments to the clethodim tolerances would be safe, i.e., there is a reasonable certainty that no harm will result to the general population, or specifically to infants and children, from aggregate exposure to clethodim residues. Adequate enforcement methodology is available.

I. 40 CFR 180.572; Bifenazate; Case 7609 (Docket ID No. EPA-HQ-OPP-2012-0633)

EPA is proposing to amend the current tolerance by:

• Revising the tolerance expressions in paragraphs (a)(1), (a)(2), and (c) for bifenazate to describe more clearly the scope or coverage of the tolerances and the method for measuring compliance. Consistent with EPA policy, the revised tolerance expression would clarify that (1) as provided in FFDCA section 408(a)(3), the tolerances cover metabolites and degradates of bifenazate not specifically mentioned; and (2) compliance with the specified tolerance levels is to be determined by measuring the specific compounds mentioned in the tolerance expression. The revisions to the tolerance expression would not substantively change the tolerances or, in any way, modify the permissible level of residues permitted by the tolerances.

• Revising the commodity definitions in paragraph (a) from “Bean, dry seed” to “Bean, dry, seed”, “Berry, low-growing subgroup 13-07G” to “Berry, low-growing, subgroup 13-07G”, “Black sapote” to “Sapote, black”, “Fruit, small, vine climbing subgroup 13-07F, except fuzzy kiwifruit” to “Fruit, small, vine climbing, except fuzzy kiwifruit, subgroup 13-07F”, “Herb, subgroup 19A, except chervil and chive” to “Herb subgroup 19A, except chervil and chive”, “Peppermint, tops” to “Peppermint, fresh leaves”, “Soybean, succulent shelled” to “Soybean, vegetable, succulent shelled”, and “Spearmint, tops” to “Spearmint, fresh leaves.” These revisions of commodity definitions would help facilitate efficient commodity searches and would not substantively change the tolerance or, in any way, modify the permissible level of residues in or on the commodity listed in the regulation.

• Removing the tolerances from paragraph (a) for the individual commodities “Grape” at 0.75 ppm and “Okra” at 2 ppm. These commodities are covered by the existing crop group tolerances “Fruit, small, vine climbing subgroup 13-07F, except fuzzy kiwifruit,” at 1.0 ppm and “Vegetable, fruiting, group 8-10” at 4.0 ppm, respectively, and they would continue to be covered under the revisions proposed in this rule.

• Modifying tolerances to reflect current OECD rounding practices.

As discussed in Unit II.D., based on the supporting registration review documents, EPA has determined that the proposed amendments to the bifenazate tolerances would be safe, i.e., there is a reasonable certainty that no harm will result to the general population, or specifically to infants and children, from aggregate exposure to bifenazate residues. Adequate enforcement methodology is available.

J. 40 CFR 180.620; Etofenprox; Case 7407 (Docket ID No. EPA-HQ-OPP-2007-0804)

EPA is proposing to amend the current tolerance by:

• Revising the tolerance expression in newly designated paragraph (a)(1) for etofenprox to describe more clearly the scope or coverage of the tolerances and the method for measuring compliance. Consistent with EPA policy, the revised tolerance expression would clarify that (1) as provided in FFDCA section 408(a)(3), the tolerances cover metabolites and degradates of etofenprox not specifically mentioned; and (2) compliance with the specified tolerance levels is to be determined by measuring the specific compounds mentioned in the tolerance expression. The revisions to the tolerance expression would not substantively change the tolerances or, in any way, modify the permissible level of residues permitted by the tolerances.

• Establishing a tolerance of 5 ppm under a newly designated paragraph (a)(2) for residues of etofenprox in or on all food/feed items resulting from use of etofenprox as a wide-area mosquito adulticide.

• Modifying tolerances to reflect current OECD rounding practices.

Where appropriate, it is the Agency's intention is to harmonize U.S. tolerances with those international MRLs to facilitate trade. EPA has identified opportunities to harmonize with Codex MRLs for etofenprox and is proposing to harmonize the U.S. tolerances for “Cattle, meat”, “Goat, meat”, “Horse, meat”, and “Sheep, meat”, all from 0.40 ppm to 0.5 ppm and “Hog, meat” from 0.20 ppm to 0.5 ppm.

As discussed in Unit II.D., based on the supporting registration review documents, EPA has determined that the proposed amendments to the etofenprox tolerances would be safe, i.e., there is a reasonable certainty that no harm will result to the general population, or specifically to infants and children, from aggregate exposure to etofenprox residues. Adequate enforcement methodology is available.

IV. Proposed Effective and Expiration Date(s)

EPA is proposing that these tolerance actions would be effective on the date of publication of the final rule in the Federal Register. For actions in the final rule that lower or revoke existing tolerances, EPA is proposing to add an expiration date for the existing tolerance of 180 days (approximately six months) after the date of publication of the final rule in the Federal Register, to allow a reasonable interval for producers in exporting members of the World Trade Organization's (WTO's) Sanitary and Phytosanitary (SPS) Measures Agreement to adapt to the requirements.

V. Statutory and Executive Order Reviews

Additional information about these statutes and Executive Orders can be found at https://www.epa.gov/laws-regulations/laws-and-executive-orders.

A. Executive Order 12866: Regulatory Planning and Review

This action is exempt from review under Executive Order 12866 (58 FR 51735, October 4, 1993), because it proposes to establish or modify a pesticide tolerance or a tolerance exemption under FFDCA section 408. This exemption also applies to tolerance revocations for which extraordinary circumstances do not exist. As such, this exemption applies to the tolerance revocations in this proposed rule because the Agency knows of no extraordinary circumstances that warrant reconsideration of this exemption for those proposed tolerance revocations.

B. Executive Order 14192: Unleashing Prosperity Through Deregulation

Executive Order 14192 (90 FR 9065, February 6, 2025) does not apply because this tolerance action under FFDCA section 408 is exempted from review under Executive Order 12866.

C. Paperwork Reduction Act (PRA)

This action does not impose an information collection burden under the PRA 44 U.S.C. 3501 et seq., because it does not contain any information collection activities.

D. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. This determination takes into account an EPA analysis for tolerance establishments and modifications that published in the Federal Register of May 4, 1981 (46 FR 24950) (FRL-1809-5) and for tolerance revocations on December 17, 1997 (62 FR 66020) (FRL-5753-1). Additionally, in a 2001 memorandum, EPA determined that eight conditions must all be satisfied in order for an import tolerance or tolerance exemption revocation to adversely affect a significant number of small entity importers, and that there is a negligible joint probability of all eight conditions holding simultaneously with respect to any particular revocation. See Memorandum from Denise Keehner, Division Director, Biological and Economic Analysis Division, Office of Pesticide Programs, entitled “RFA/SBREFA Certification for Import Tolerance Revocation” and dated May 25, 2001, which is available in docket ID No. EPA-HQ-OPP-2005-0322 at https://www.regulations.gov.

Any comments about the Agency's determination for this rulemaking should be submitted to EPA along with comments on the proposed rule and will be addressed in the final rule.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, local or Tribal governments or the private sector.

F. Executive Order 13132: Federalism

This action does not have federalism implications as specified in Executive Order 13132 (64 FR 43255, August 10, 1999), because it will not have substantial direct effects on the States, on the relationship between the National Government and the States, or on the distribution of power and responsibilities among the various levels of government.

G. Executive Order 13175: Consultation and Coordination With Indian Tribal Governments

This action does not have tribal implications as specified in Executive Order 13175 (65 FR 67249, November 9, 2000), because it will not have substantial direct effects on tribal governments, on the relationship between the Federal Government and the Indian Tribes, or on the distribution of power and responsibilities between the Federal Government and Indian Tribes.

H. Executive Order 13045: Protection of Children From Environmental Health Risks and Safety Risks

This action is not subject to Executive Order 13045 (62 FR 19885, April 23, 1997) because it is not a significant regulatory action under section 3(f)(1) of Executive Order 12866 (See Unit V.A.), and because EPA does not believe the environmental health or safety risks addressed by this action present a disproportionate risk to children. However, EPA's 2021 Policy on Children's Health applies to this action. This rule proposes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

I. Executive Order 13211: Actions Concerning Regulations That Significantly Affect Energy Supply, Distribution or Use

This action is not subject to Executive Order 13211 (66 FR 28355) (May 22, 2001) because it is not a significant regulatory action under Executive Order 12866.

J. National Technology Transfer Advancement Act (NTTAA)

This action does not involve technical standards that would require Agency consideration under NTTAA section 12(d), 15 U.S.C. 272.

List of Subjects in 40 CFR Part 180

Environmental protection, Administrative practice and procedure, Agricultural commodities, Pesticides and pests, Reporting and recordkeeping requirements.

Dated: December 3, 2025.
Edward Messina,
Director, Office of Pesticide Programs.

For the reasons set forth in the preamble, EPA is proposing to amend 40 CFR chapter I as follows:

PART 180—TOLERANCES AND EXEMPTIONS FOR PESTICIDE CHEMICAL RESIDUES IN FOOD

1. The authority citation for part 180 continues to read as follows:

Authority: 21 U.S.C. 321(q), 346a and 371.

2. Amend § 180.220 by revising and replacing § 180.220 to read as follows:

§ 180.220 Atrazine; tolerances for residues.

(a) General. Tolerances are established for residues of the herbicide atrazine, including its metabolites and degradates, in or on the commodities in Table 1 to Paragraph (a). Compliance with the tolerance levels specified in Table 1 to Paragraph (a) is to be determined by measuring only the sum of atrazine, 6-chloro-N-ethyl-N′-(1-methylethyl)-1,3,5-triazine-2,4-diamine, its metabolites 2-amino-4-chloro-6-isopropylamino-s-triazine, 2-amino-4-chloro-6-ethylamino-s-triazine, and 2,4-diamino-6-chloro-s-triazine, calculated as the stoichiometric equivalent of atrazine, in or on the commodity.

Table 1 to Paragraph (a)
Commodity | Parts per million
Cattle, fat | 0.02
Cattle, meat | 0.02
Cattle, meat byproducts | 0.02
Corn, field, forage | 1.5
Corn, field, grain | 0.2
Corn, field, stover | 0.5
Corn, pop, forage | 1.5
Corn, pop, grain | 0.2
Corn, pop, stover | 0.5
Corn, sweet, forage ¹ | 15
Corn, sweet, forage | 1.5
Corn, sweet, kernel plus cob with husks removed | 0.2
Corn, sweet, stover | 2
Goat, fat | 0.02
Goat, meat | 0.02
Goat, meat byproducts | 0.02
Grass, forage | 4
Grass, hay | 4
Guava | 0.05
Horse, fat | 0.02
Horse, meat | 0.02
Horse, meat byproducts | 0.02
Milk | 0.02
Nut, macadamia | 0.2
Sheep, fat | 0.02
Sheep, meat | 0.02
Sheep, meat byproducts | 0.02
Sorghum, forage, forage | 0.25
Sorghum, grain, forage | 0.25
Sorghum, grain, grain | 0.2
Sorghum, grain, stover | 0.5
Sugarcane, cane | 0.2
Wheat, forage | 1.5
Wheat, grain | 0.1
Wheat, hay | 5
Wheat, straw | 0.5
¹ This tolerance expires on [DATE 180 DAYS AFTER DATE OF PUBLICATION OF THE FINAL RULE IN THE FEDERAL REGISTER].

(b) Section 18 emergency exemptions. [Reserved]

(c) Tolerances with regional registrations. [Reserved]

(d) Indirect and inadvertent residues. Tolerances are established for indirect or inadvertent residues of the herbicide atrazine, including its metabolites and degradates, in or on the commodities in Table 2 to Paragraph (d). Compliance with the tolerance levels specified in Table 2 to Paragraph (d) is to be determined by measuring only the sum of atrazine, 6-chloro-N-ethyl-N′-(1-methylethyl)-1,3,5-triazine-2,4-diamine, its metabolites, 6-chloro-2-N-(1-methylethyl)-1,3,5-triazine-2,4-diamine, 6-chloro-2-N-ethyl-1,3,5-triazine-2,4-diamine, and 6-chloro-1,3,5-triazine-2,4-diamine, calculated as the stoichiometric equivalent of atrazine, in or on the commodity.

Table 2 to Paragraph (d)
Commodity | Parts per million
Arugula | 0.25
Celtuce | 0.25
Fennel, Florence, fresh leaves and stalk | 0.25
Garden cress | 0.25
Leaf petiole vegetable subgroup 22B | 0.25
Leafy greens subgroup 4-16A | 0.25
Upland cress | 0.25
Vegetable, foliage of legume, group 7 | 0.5

3. Amend § 180.226 by:

a. Adding the heading “Table 1 to Paragraph (a)(1)” to the table in paragraph (a)(1);

b. Revising and republishing the table in paragraph (a)(1);

c. Revising and republishing paragraph (a)(2)(i); and

d. Removing paragraphs (a)(3) and (a)(4) in their entirety.

The revisions and additions read as follows:

§ 180.226 Diquat; tolerances for residues.

(a) * * *

(1) * * *

Table 1 to Paragraph (a)(1)
Commodity | Parts per million
Alfalfa, seed | 3
Banana ¹ ² | 0.05
Banana ¹ | 0.02
Cattle, fat | 0.05
Cattle, meat | 0.05
Cattle, meat byproducts | 0.05
Canola, meal | 6
Canola, seed | 2
Clover, seed | 2
Coffee, bean, green ¹ ² | 0.05
Coffee, bean, green ¹ | 0.02
Egg | 0.05
Goat, fat | 0.05
Goat, meat | 0.05
Goat, meat byproducts | 0.05
Hog, fat | 0.05
Hog, meat | 0.05
Hog, meat byproducts | 0.05
Horse, fat | 0.05
Horse, meat | 0.05
Horse, meat byproducts | 0.05
Milk | 0.02
Pea and bean, dry and shelled, except soybean, subgroup 6C ¹ | 0.9
Potato | 0.1
Potato, chips | 0.5
Potato, granules/flakes | 0.5
Poultry, fat | 0.05
Poultry, meat | 0.05
Poultry, meat byproducts | 0.05
Sheep, fat | 0.05
Sheep, meat | 0.05
Sheep, meat byproducts | 0.05
Soybean, hulls ² | 0.6
¹ There are no U.S. registrations for this commodity.
² This tolerance expires on [DATE 180 DAYS AFTER DATE OF PUBLICATION OF THE FINAL RULE IN THE FEDERAL REGISTER].

(2)

(i) Tolerances are established for residues of the herbicide diquat, including its metabolites and degradates, derived from application of the dibromide salt to ponds, lakes, reservoirs, marshes, drainage ditches, canals, streams, and rivers which are slow-moving or quiescent in programs of the Corp of Engineers or other Federal or State public agencies and to ponds, lakes and drainage ditches only where there is little or no outflow of water and which are totally under the control of the user, in or on the commodities in Table 2 to Paragraph (a)(2). Compliance with the tolerance levels specified below is to be determined by measuring only diquat (6,7-dihydrodipyrido[1,2-a:2′,1′-c]pyrazinediium).

Table 2 to Paragraph (a)(2)(i)
Commodity | Parts per million
Animal feed, nongrass, group 18, forage | 0.2
Animal feed, nongrass, group 18, hay | 0.2
Avocado | 0.2
Berry and small fruit, group 13-07 | 0.05
Fish | 2
Fruit, citrus, group 10-10 | 0.05
Fruit, pome, group 11-10 | 0.02
Fruit, stone, group 12-12 | 0.02
Grain, cereal, forage, fodder and straw, group 16 | 0.02
Grain, cereal, group 15 | 0.02
Grass, forage, fodder and hay, group 17 | 0.2
Herb and spice, group 19 | 0.2
Hop, dried cones | 0.2
Nut, tree, group 14-12 | 0.02
Oilseeds, group 20 | 0.2
Shellfish | 20
Sugarcane, cane | 0.2
Vegetable, Brassica, leafy, group 5 | 0.05
Vegetable, bulb, group 3 | 0.02
Vegetable, cucurbit, group 9 | 0.02
Vegetable, foliage of legume, group 7 | 0.2
Vegetable, fruiting, group 8-10 | 0.05
Vegetable, leafy, except Brassica, group 4 | 0.05
Vegetable, leaves of root and tuber, group 2 | 0.02
Vegetable, legume, group 6 | 0.05
Vegetable, root and tuber, group 1, except potato | 0.02

(ii) * * *

* * * * *

4. Amend § 180.318 by:

a. Revising the section heading to read “MCPB; tolerance for residues.”; and

b. Revising and republishing paragraph (a).

The revisions read as follows:

§ 180.318 MCPB; tolerances for residues.

(a) General. Tolerances are established for residues of the herbicide MCPB, including its metabolites and degradates, in or on the commodities in Table 1 to Paragraph (a). Compliance with the tolerance levels specified in Table 1 to Paragraph (a) is to be determined by measuring only the sum of MCPB, 4-(4-chloro-2-methylphenoxy)butanoic acid and MCPA, (4-chloro-2-methylphenoxy)acetic acid, calculated as the stoichiometric equivalent of MCPB, in or on the commodity.

Table 1 to Paragraph (a)
Commodity | Parts per million
Pea ¹ | 0.1
Pea, dry, seed | 0.03
Pea, edible, podded | 0.02
Pea, succulent, shelled | 0.02
Peppermint, fresh leaves | 0.2
Spearmint, fresh leaves | 0.2
¹ This tolerance expires on [DATE 180 DAYS AFTER DATE OF PUBLICATION OF THE FINAL RULE IN THE FEDERAL REGISTER].

* * * * *

5. Amend § 180.328 by revising and republishing paragraph (a) to read as follows:

§ 180.328 Napropamide; tolerances for residues.

(a) General. Tolerances are established for residues of napropamide, including its metabolites and degradates, in or on the commodities in Table 1 to Paragraph (a). Compliance with the tolerance levels specified in Table 1 to Paragraph (a) is to be determined by measuring only napropamide (N,N-diethyl-2-(1-naphthalenyloxy)propionamide) in or on the commodity.

Table 1 to Paragraph (a)
Commodity | Parts per million
Almond, hulls | 0.1
Asparagus | 0.1
Basil | 0.1
Berry, low growing, subgroup 13-07G | 0.1
Brassica, leafy greens, subgroup 4-16B | 0.1
Bushberry subgroup 13-07B | 0.1
Caneberry subgroup 13-07A | 0.1
Coffee, green bean | 0.1
Cranberry | 0.1
Fruit, small, vine climbing, subgroup 13-07D | 0.1
Grape | 0.1
Kiwifruit | 0.1
Marjoram | 0.1
Nut, tree, group 14-12 | 0.1
Peppermint, fresh leaves | 0.1
Persimmon | 0.1
Rhubarb | 0.1
Rosemary | 0.1
Savory, summer | 0.1
Savory, winter | 0.1
Spearmint, fresh leaves | 0.1
Stalk and stem vegetable subgroup 22A | 0.1
Strawberry | 0.1
Sweet potato, roots | 0.1
Vegetable, brassica, head and stem, group 5-16 | 0.1
Vegetable, brassica, leafy, group 5 | 0.1
Vegetable, fruiting, group 8-10 | 0.1

* * * * *

6. Amend § 180.339 by revising and republishing the section to read as follows:

§ 180.339 MCPA; tolerances for residues.

(a) General. Tolerances are established for residues of the herbicide MCPA, including its metabolites and degradates, in or on the commodities in Table 1 to Paragraph (a). Compliance with the tolerance levels specified in Table 1 to Paragraph (a) is to be determined by measuring only MCPA, 2-(4-chloro-2-methylphenoxy)acetic acid, in or on the commodity.

Table 1 to Paragraph (a)
Commodity | Parts per million
Alfalfa, forage | 0.5
Alfalfa, hay | 2
Barley, grain ¹ | 1
Barley, grain | 0.2
Barley, hay | 50
Barley, straw | 50
Cattle, fat | 0.2
Cattle, meat | 0.1
Cattle, meat byproducts | 3
Clover, forage | 0.05
Clover, hay | 0.05
Flax, seed ¹ | 0.1
Flax, seed | 0.01
Goat, fat | 0.2
Goat, meat | 0.1
Goat, meat byproducts | 3
Grain, aspirated fractions | 3
Grass, forage, fodder and hay, group 17, forage | 500
Grass, forage, fodder and hay, group 17, hay | 200
Hog, fat ¹ | 0.1
Hog, meat ¹ | 0.1
Hog, meat byproducts ¹ | 0.1
Horse, fat | 0.2
Horse, meat | 0.1
Horse, meat byproducts | 3
Lespedeza, forage | 0.5
Lespedeza, hay | 2
Milk ¹ | 0.1
Milk | 0.04
Oat, forage | 50
Oat, grain ¹ | 1
Oat, grain | 0.2
Oat, hay ¹ | 115
Oat, hay | 50
Oat, straw | 50
Pea, dry ¹ | 0.1
Pea, dry, seed | 0.01
Pea, field, hay | 1.5
Pea, field, vines | 0.6
Pea, succulent shelled | 0.1
Rye, forage | 50
Rye, grain ¹ | 1
Rye, grain | 0.2
Rye, straw | 50
Sheep, fat | 0.2
Sheep, meat | 0.1
Sheep, meat byproducts | 3
Tea, dried | 0.3
Trefoil, forage | 0.5
Trefoil, hay | 2
Vetch, forage | 0.5
Vetch, hay | 2
Wheat, forage | 50
Wheat, grain ¹ | 1
Wheat, grain | 0.2
Wheat, hay ¹ | 115
Wheat, hay | 50
Wheat, straw | 50
Wheatgrass, intermediate, forage | 50
Wheatgrass, intermediate, grain | 0.2
Wheatgrass, intermediate, hay | 50
Wheatgrass, intermediate, straw | 50
¹ This tolerance expires on [DATE 180 DAYS AFTER DATE OF PUBLICATION OF THE FINAL RULE IN THE FEDERAL REGISTER].

(b) Section 18 emergency exemptions. [Reserved].

(c) Tolerances with regional registrations. [Reserved].

(d) Indirect or inadvertent residues. [Reserved].

* * * * *

7. Amend § 180.409 by revising and republishing paragraph (a) to read as follows:

§ 180.409 Pirimiphos-methyl; tolerances for residues.

(a) General. Tolerances are established for residues of the insecticide pirimiphos-methyl, including its metabolites and degradates, in or on the commodities in Table 1 to Paragraph (a). Compliance with the tolerance levels specified in Table 1 to Paragraph (a) is to be determined by measuring only pirimiphos-methyl (O-[2-(diethylamino)-6-methyl-4-pyrimidinyl]O,O-dimethyl phosphorothioate) in or on the commodity.

Table 1 to Paragraph (a)
Commodity | Parts per million
Cattle, fat ¹ | 0.02
Cattle, fat | 0.01
Cattle, meat byproducts ¹ | 0.02
Cattle, meat byproducts | 0.01
Corn, field, grain ¹ | 8
Corn, field, grain | 7
Corn, pop, grain ¹ | 8
Corn, pop, grain | 7
Goat, fat ¹ | 0.02
Goat, fat | 0.01
Goat, meat byproducts ¹ | 0.02
Goat, meat byproducts | 0.01
Grain, aspirated fractions | 20
Hog, fat ¹ | 0.02
Hog, fat | 0.01
Hog, meat byproducts ¹ | 0.02
Hog, meat byproducts | 0.01
Horse, fat ¹ | 0.02
Horse, fat | 0.01
Horse, meat byproducts ¹ | 0.02
Horse, meat byproducts | 0.01
Poultry, fat ¹ | 0.02
Poultry, fat | 0.01
Sheep, fat ¹ | 0.02
Sheep, fat | 0.01
Sheep, meat byproducts ¹ | 0.02
Sheep, meat byproducts | 0.01
Sorghum, grain, grain ¹ | 8
Sorghum, grain, grain | 7
¹ This tolerance expires on [DATE 180 DAYS AFTER DATE OF PUBLICATION OF THE FINAL RULE IN THE FEDERAL REGISTER].

* * * * *

8. Amend § 180.411 by:

a. Revising and republishing paragraph (a);

b. Revising the title of paragraph (b);

c. Revising the introductory text in paragraph (c);

d. Revising the entry “Coffee, bean” in the table in paragraph (c); and

e. Adding an additional entry for “Coffee, bean” in the table in paragraph (c).

The revisions and addition read as follows:

§ 180.411 Fluazifop-P-butyl; tolerances for residues.

(a) General. Tolerances are established for residues of the herbicide fluazifop-P-butyl, butyl (2R)-2-[4-[[5-(trifluoromethyl)-2-pyridinyl]oxy]phenoxy]propanoate, including its metabolites and degradates, in or on the commodities in Table 1 to Paragraph (a). Compliance with the tolerance levels specified in Table 1 to Paragraph (a) is to be determined by measuring only those fluazifop-P-butyl residues convertible to fluazifop, butyl 2-[4-[[5-(trifluoromethyl)-2-pyridinyl]oxy]phenoxy]propanoic acid, expressed as fluazifop, in or on the commodity.

Table 1 to Paragraph (a)
Commodity | Parts per million
Banana | 0.01
Bean, dry, seed | 40
Beans, dry, seed ¹ | 50
Beet, sugar, dried pulp | 1
Beet, sugar, molasses | 3.5
Beet, sugar, roots | 0.5
Berry, low growing, subgroup 13-07G | 3
Brassica, leafy greens, subgroup 4-16B | 15
Bushberry subgroup 13-07B | 0.3
Caneberry subgroup 13-07A | 0.08
Carrot, roots | 2
Cattle, fat | 0.09
Cattle, meat | 0.09
Cattle, meat byproducts | 0.2
Chives, dried leaves | 40
Chives, fresh leaves | 4
Citrus, dried pulp ¹ | 0.40
Citrus, dried pulp | 0.06
Citrus, juice ¹ | 0.06
Citrus, oil ¹ | 30.0
Citrus, oil | 0.05
Cotton, gin byproducts | 1.5
Cotton, refined oil | 1.3
Cotton, undelinted seed ¹ | 1
Cotton, undelinted seed | 0.7
Egg ¹ | 0.05
Egg | 0.03
Endive | 6
Fruit, citrus, group 10-10 | 0.01
Fruit, small vine climbing, except fuzzy kiwifruit, subgroup 13-07F | 0.03
Fruit, stone, group 12-12 | 0.01
Goat, fat | 0.09
Goat, meat | 0.09
Goat, meat byproducts | 0.2
Hog, fat | 0.09
Hog, meat | 0.09
Hog, meat byproducts | 0.2
Horse, fat | 0.09
Horse, meat | 0.09
Horse, meat byproducts | 0.2
Leaf petiole vegetable subgroup 22B | 3
Lettuce, head | 3
Lettuce, leaf | 5
Milk | 0.2
Nut, macadamia | 0.1
Onion, bulb, subgroup 3-07A | 0.5
Onion, green, subgroup 3-07B | 1.5
Papaya | 0.01
Peanut | 1.5
Peanut, meal | 2.2
Pecan | 0.01
Pecans ¹ | 0.05
Poultry, fat | 0.03
Poultry, meat | 0.03
Poultry, meat byproducts | 0.2
Potato ² | 1
Potato, chips ² | 2
Potato, granules/flakes ² | 4
Sheep, fat | 0.09
Sheep, meat | 0.09
Sheep, meat byproducts | 0.2
Soybean, seed | 4
Vegetable, Brassica, head and stem, group 5-16 | 30
Vegetable, tuberous and corm, except potato, subgroup 1D | 1.5
¹ This tolerance expires on [DATE 180 DAYS AFTER DATE OF PUBLICATION OF THE FINAL RULE IN THE FEDERAL REGISTER].
² There are no U.S. registrations.

(b) Section 18 emergency exemptions. [Reserved].

(c) Tolerances with regional registrations. Tolerances are established for residues of the herbicide fluazifop-P-butyl, butyl (2R)-2-[4-[[5-(trifluoromethyl)-2-pyridinyl]oxy]phenoxy]propanoate, including its metabolites and degradates, in or on the commodities listed in Table 2 to Paragraph (c). Compliance with the tolerance levels specified in Table 2 to Paragraph (c) is to be determined by measuring only those fluazifop-P-butyl residues convertible to fluazifop2-[4-[[5-(trifluoromethyl)-2-pyridinyl]oxy]phenoxy]propanoic acid, expressed as fluazifop, in or on the commodity.

Table 2 to Paragraph (c)
Commodity | Parts per million
* * * * * * *
Coffee, bean ¹ | 0.1
Coffee, bean | 0.01
* * * * * * *
¹ This tolerance expires on [DATE 180 DAYS AFTER DATE OF PUBLICATION OF THE FINAL RULE IN THE FEDERAL REGISTER].

* * * * *

9. Amend § 180.458 by:

a. Adding the heading “Table 1 to Paragraph (a)” to the table in paragraph (a); and

b. Revising and republishing the table in paragraph (a).

The revisions and additions read as follows:

§ 180.458 Clethodim; tolerances for residues.

(a) * * *

Table 1 to Paragraph (a)
Commodity | Parts per million
Alfalfa, forage | 6
Alfalfa, hay | 10
Almond, hulls | 0.2
Artichoke, globe | 1.2
Berry, low growing, subgroup 13-07G, except cranberry | 3
Beet, sugar, molasses | 1
Beet, sugar, roots | 0.2
Beet, sugar, tops | 1
Brassica, leafy, greens, subgroup 4-16B | 3
Bushberry subgroup 13-07B | 0.2
Caneberry subgroup 13-07A | 0.3
Canola, meal | 1
Cattle, fat | 0.2
Cattle, meat | 0.2
Cattle, meat byproducts | 0.2
Clover, forage | 10
Clover, hay | 20
Corn, field, forage | 0.2
Corn, field, grain | 0.2
Corn, field, stover | 0.2
Cotton, meal | 2
Cottonseed subgroup 20C | 1
Cranberry | 0.5
Egg | 0.2
Flax, meal | 1
Fruit, pome, group 11-10 | 0.2
Fruit, stone, group 12-12 | 0.2
Goat, fat | 0.2
Goat, meat | 0.2
Goat, meat byproducts | 0.2
Herb subgroup 19A | 12
Hog, fat | 0.2
Hog, meat | 0.2
Hog, meat byproducts | 0.2
Hop, dried cones | 0.5
Horse, fat | 0.2
Horse, meat | 0.2
Horse, meat byproducts | 0.2
Leaf petiole vegetable subgroup 22B | 0.6
Leafy greens subgroup 4-16A | 2
Melon subgroup 9A | 2
Milk | 0.05
Nut, tree, group 14-12 | 0.2
Okra | 1.5
Onion, bulb, subgroup 3-07A | 0.5
Onion, green, subgroup 3-07B | 2
Peanut | 5
Peanut, hay | 3
Peanut, meal | 5
Peppermint, tops | 5
Potato, granules/flakes | 2
Poultry, fat | 0.2
Poultry, meat | 0.2
Poultry, meat byproducts | 0.2
Radish, tops | 0.7
Rapeseed subgroup 20A | 0.6
Safflower, meal | 10
Sheep, fat | 0.2
Sheep, meat | 0.2
Sheep, meat byproducts | 0.2
Soybean | 10
Spearmint, tops | 5
Squash/cucumber subgroup 9B | 0.5
Stalk and stem vegetable subgroup 22A | 1.7
Stevia, dried leaves | 12
Sunflower, meal | 10
Sunflower subgroup 20B | 5
Vegetable, brassica, head and stem, group 5-16 | 3
Vegetable, fruiting, group 8-10, except okra | 1
Vegetable, legume, group 6, except soybean | 3.5
Vegetable, root, except sugar beet, subgroup 1B | 1
Vegetable, tuberous and corm, subgroup 1C | 1

* * * * *

10. Amend § 180.572 by:

a. Revising and republishing paragraph (a)(1);

b. Revising the introductory text in paragraph (a)(2);

c. Adding the table heading “Table 2 to Paragraph (a)(2)” to the table in paragraph (a)(2);

d. Revising the introductory text in paragraph (c); and

e. Add the table heading “Table 3 to Paragraph (c)” to the table in paragraph (c).

The revisions and additions read as follows:

§ 180.572 Bifenazate; tolerances for residues.

(a) General.

(1) Tolerances are established for residues of the insecticide bifenazate (1-methylethyl 2-(4-methoxy[1,1′-biphenyl]-3-yl)hydrazinecarboxylate), including its metabolites and degradates, in or on the commodities listed in Table 1 to Paragraph (a)(1). Compliance with the tolerance levels specified in Table 1 to Paragraph (a)(1) is to be determined by measuring only the sum of bifenazate and its metabolite, diazinecarboxylic acid, 2-(4-methoxy-[1,1′-biphenyl]-3-yl), 1-methylethyl ester, (calculated as the stoichiometric equivalent of bifenazate) in or on the commodity.

Table 1 to Paragraph (a)(1)
Commodity | Parts per million
Acerola | 0.9
Almond, hulls | 15
Apple, wet pomace | 1.2
Atemoya | 1.6
Avocado | 7
Bean, dry, seed | 0.6
Berry, low-growing, subgroup 13-07G | 1.5
Biriba | 1.6
Caneberry subgroup 13-07A | 5
Canistel | 7
Cattle, fat | 0.1
Cherimoya | 1.6
Cotton, gin byproducts | 35
Cotton, undelinted seed | 0.75
Custard apple | 1.6
Feijoa | 0.9
Fruit, pome, group 11-10 | 0.7
Fruit, small, vine climbing, except fuzzy kiwifruit, subgroup 13-07F | 1
Fruit, stone, group 12, except plum | 2.5
Goat, fat | 0.1
Grape, raisin | 1.2
Guava | 0.9
Herb subgroup 19A, except chervil and chive | 300
Hog, fat | 0.1
Hop, dried cones | 15
Horse, fat | 0.1
Ilama | 1.6
Jaboticaba | 0.9
Longan | 5
Lychee | 5
Mango | 7
Nut, tree, group 14 | 0.2
Papaya | 7
Passionfruit | 0.9
Pea and bean, succulent shelled, subgroup 6B | 0.7
Peppermint, fresh leaves | 25
Pistachio | 0.2
Plum | 0.2
Pulasan | 5
Rambutan | 5
Sapodilla | 7
Sapote, black | 7
Sapote, mamey | 7
Sheep, fat | 0.1
Soursop | 1.6
Soybean, vegetable, succulent shelled | 0.7
Spanish lime | 5
Spearmint, fresh leaves | 25
Star apple | 7
Starfruit | 0.9
Strawberry | 1.5
Sugar apple | 1.6
Vegetable, cucurbit, group 9 | 0.75
Vegetable, fruiting, group 8-10 | 4
Vegetable, legume, edible-podded, subgroup 6A | 6
Vegetable, tuberous and corm, subgroup 1C | 0.1
Wax jambu | 0.9

(2) Tolerances are established for residues of the insecticide bifenazate (1-methylethyl 2-(4-methoxy[1,1′-biphenyl]-3-yl) hydrazinecarboxylate), including its metabolites and degradates, in or on the commodities listed in Table 2 to Paragraph (a)(2). Compliance with the tolerance levels specified in Table 2 to Paragraph (a)(2) is to be determined by measuring only the sum of bifenazate and its metabolites diazinecarboxylic acid, 2-(4-methoxy-[1,1′-biphenyl]-3-yl), 1- methylethyl ester; 1,1′-biphenyl, 4-ol; and 1,1′-biphenyl, 4-oxysulfonic acid (calculated as the stoichiometric equivalent of bifenazate) in or on the commodity.

Table 2 to Paragraph (a)(2)
Commodity | Parts per million
* * * * * * *

(b) * * *

(c) Tolerances with regional registrations. Tolerances with regional registration, as defined in § 180.1(l), are established for residues of the insecticide bifenazate (1-methylethyl 2-(4-methoxy[1,1′-biphenyl]-3-yl)hydrazinecarboxylate), including its metabolites and degradates, in or on the commodities in Table 3 to Paragraph (c). Compliance with the tolerance levels specified in Table 3 to Paragraph (c) is to be determined by measuring only the sum of bifenazate and its metabolite, diazinecarboxylic acid, 2-(4-methoxy-[1,1′-biphenyl]-3-yl), 1-methylethyl ester, (calculated as the stoichiometric equivalent of bifenazate) in or on the commodity.

Table 3 to Paragraph (c)
Commodity | Parts per million
* * * * * * *

* * * * *

11. Amend § 180.620 by revising and republishing paragraph (a) to read as follows:

§ 180.620 Etofenprox; tolerances for residues.

(a) General.

(1) Tolerances are established for residues of the insecticide etofenprox, including its metabolites and degradates, in or on the commodities in Table 1 to Paragraph (a)(1). Compliance with the tolerance levels specified in Table 1 to Paragraph (a)(1) is to be determined by measuring only etofenprox, 1-[[2-(4-ethoxyphenyl)-2-methylpropoxy]methyl]-3-phenoxybenzene in or on the commodity.

Table 1 to Paragraph (a)(1)
Commodity | Parts per million
Cattle, fat | 10
Cattle, meat | 0.5
Cattle, meat byproducts | 10
Egg | 0.4
Fungi, edible, group 21 | 3
Goat, fat | 10
Goat, meat | 0.5
Goat, meat byproducts | 10
Hog, fat | 4
Hog, meat | 0.5
Hog, meat byproducts | 4
Horse, fat | 10
Horse, meat | 0.5
Horse, meat byproducts | 10
Milk | 0.6
Poultry, fat | 1
Poultry, meat | 0.01
Poultry, meat byproducts | 1
Rice, grain | 0.01
Sheep, fat | 10
Sheep, meat | 0.5
Sheep, meat byproducts | 10

(2) A tolerance of 5 parts per million is established for residues of the insecticide etofenprox, including its metabolites and degradates, in or on all food/feed items (other than those covered by a higher tolerance as a result of use on growing crop(s)) when etofenprox is used as a wide-area mosquito adulticide. Compliance with the tolerance levels specified in this paragraph (a)(2) is to be determined by measuring only etofenprox,1-[[2-(4-ethoxyphenyl)-2 methylpropoxy]methyl]-3-phenoxybenzene in or on the food/feed item.

* * * * *

[FR Doc. 2025-22519 Filed 12-10-25; 8:45 am]

BILLING CODE 6560-50-P